CORPORATION FOR NATIONAL AND COMMUNITY SERVICE

Proposed Information Collection; Comment Request

AGENCY: Corporation for National and Community Service.

ACTION: Notice.

SUMMARY: The Corporation for National and Community Service (hereinafter the “Corporation”), as part of its continuing effort to reduce paperwork and respondent burden, conducts a pre-clearance consultation program to provide the general public and federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, the Corporation is soliciting comments concerning the proposed information collection project: “Determining the Prevalence of Disability Among Current Members in the Corporation for National and Community Service AmeriCorps Programs.”

Copies of the information collection requests can be obtained by contacting the office listed in the address section of this notice.

DATES: Written comments must be submitted to the individual and office listed in the ADDRESSES section by August 10, 2007.

ADDRESSES: You may submit comments, identified by the title of the information collection activity, by any of the following methods:

(1) By mail sent to: Corporation for National and Community Service; Office of Leadership Development and Training, 9th Floor, Attn: Jewel Bazilio-Bellegarde, Sr. Training and Disability Inclusion Officer, 1201 New York Ave., NW., Washington, DC 20525.

(2) By hand delivery or by courier to the Corporation's mailroom at Room 8102C at the mail address given in paragraph (1) above, between 9 a.m. and 4 p.m. Monday through Friday, except Federal holidays.

(3) By fax to: 202-606-3477, attn: Jewel Bazilio-Bellegarde, Sr. Training & Disability Inclusion Officer, Corporation for National and Community Service.

(4) Electronically through the Corporation's e-mail address system: jbazilio@cns.gov.

FOR FURTHER INFORMATION CONTACT: Jewel Bazilio-Bellegarde, (202) 606-6839, or by e-mail at jbazilio@cns.gov.

SUPPLEMENTARY INFORMATION: The Corporation is particularly interested in comments that:

• Evaluate whether the proposed collection of information is necessary for the proper performance of the functions of the Corporation, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

The proposed project will pilot test a survey which seeks to determine the prevalence of disability among current AmeriCorps members serving in Corporation programs. By conducting this pilot test, the Corporation seeks to refine an instrument which can be used in future research to track the prevalence rate of persons with disabilities serving as members. The goals of the study are to: (1) Test and refine a questionnaire which measures the prevalence of disability; (2) produce statistically reliable estimates for the prevalence of disability among current members in the Corporation's three AmeriCorps programs (AmeriCorps National Civilian Conservation Corps (NCCC); AmeriCorps State and National; and AmeriCorps VISTA); (3) produce a report for the Corporation on study methodology and findings and for peer-reviewed manuscripts, as appropriate.

The project involves a survey administered under four experimental conditions, to test response rates and disability disclosure rates under different modes of survey administration. These conditions will include: (1) Mail questionnaire only; (2) e-mail only, with link to complete web survey; (3) mailed letter with web option only; and (4) both a mail questionnaire and web option provided in mailing.

Data collection for this effort will be conducted in accordance with the Health Insurance Portability and Accountability Act (HIPPA) Privacy rule with the Protection of Human Research Subjects regulations, 45 CFR part 46. In addition, data collected will only be used for the above stated purposes and identifiable data collected from individuals in the study will be kept confidential, using only aggregate level-data in products or reports.

Current Action

This is an application for a new data collection in support of a pilot study. The pilot study will be conducted via four experimental conditions to test the impact of mode of survey administration on both response rates and rates of disability among the Corporation's three AmeriCorps service programs. The sample will be drawn from the Corporation's master list of 74,689 current AmeriCorps members, stratified by program, to include NCCC, Americorps State and National, and VISTA. We will draw a sample of 2,400 members, with an anticipated response rate of 80 percent across all four experimental conditions. Participation in the survey will be voluntary and there will be no monetary incentives provided for participants.

The quantitative data collected through the questionnaire will gather information about members' disability status as it pertains to: learning disabilities; ADD/ADHD; developmental disabilities, cognitive limitations; sensory; mobility; disabling chronic health conditions; psychiatric/mental health; communications; substance abuse; traumatic brain injury; short stature/little person; and perceptions of disability from self or others. The categorical response options will be used to analyze these data and determine how many respondents report a disability of any kind, by service program.

Type of Review: New Information Collection.

Agency: Corporation for National and Community Service.

Title: Determining the Prevalence of Disability Among Current Members in the Corporation for National and Community Service AmeriCorps Programs.

OMB Number: Not yet available—application being submitted.

Agency Number: None.

Affected Public: Members in AmeriCorps NCCC, AmeriCorps State and National, and AmeriCorps Vista.

Total Respondents: 2400.

Frequency: One time.

Average Time per Response: Averages 8 minutes.

Estimated Total Burden Hours: 320 hours.

Total Burden Cost (capital/startup): None.

Total Burden Cost (operating/maintenance): None.

Comments submitted in response to this notice will be summarized and/or included in the request for Office of Management and Budget approval of the information collection request; they will also become a matter of public record.

Dated: June 1, 2007.
Gretchen Van der Veer,
Director, Office of Leadership Development and Training.

[FR Doc. E7-11149 Filed 6-8-07; 8:45 am]

BILLING CODE 6050-$$-P